DEPARTMENT OF ENERGY

Federal Energy Regulatory Commission

Combined Notice of Filings #1

Take notice that the Commission received the following electric corporate filings:

Docket Numbers: EC24-123-000.

Applicants: Shady Hills Power Company, L.L.C., Solar Partners I, LLC, Solar Partners II, LLC, Solar Partners VIII, LLC, Power Holding LLC, Linden VFT, LLC.

Description: Joint Application for Authorization Under Section 203 of the Federal Power Act of Power Holding LLC, et al.

Filed Date: 9/25/24.

Accession Number: 20240925-5137.

Comment Date: 5 p.m. ET 10/16/24.

Take notice that the Commission received the following electric rate filings:

Docket Numbers: ER16-1341-003.

Applicants: Southwest Power Pool, Inc.

Description: Informational Update Regarding Proposed Refund Plan of Southwest Power Pool, Inc.

Filed Date: 9/20/24.

Accession Number: 20240920-5152.

Comment Date: 5 p.m. ET 10/11/24.

Docket Numbers: ER24-2986-001.

Applicants: Long Lake Solar, LLC.

Description: Tariff Amendment: Supplement to MBR Application to be effective 10/9/2024.

Filed Date: 9/26/24.

Accession Number: 20240926-5048.

Comment Date: 5 p.m. ET 10/7/24.

Docket Numbers: ER24-3112-000.

Applicants: Richland Township Solar, LLC.

Description: Baseline eTariff Filing: Richland Township Solar, LLC MBR Tariff to be effective 11/25/2024.

Filed Date: 9/25/24.

Accession Number: 20240925-5143.

Comment Date: 5 p.m. ET 10/16/24.

Docket Numbers: ER24-3113-000.

Applicants: BCD 2024 Fund 4 Lessee, LLC.

Description: Baseline eTariff Filing: BCD 2024 Fund 4 Lessee, LLC MBR Tariff to be effective 11/25/2024.

Filed Date: 9/25/24.

Accession Number: 20240925-5144.

Comment Date: 5 p.m. ET 10/16/24.

Docket Numbers: ER24-3114-000.

Applicants: Evergy Kansas Central, Inc., Evergy Kansas South, Inc., Southwest Power Pool, Inc.

Description: 205(d) Rate Filing: Evergy Kansas Central, Inc. submits tariff filing per 35.13(a)(2)(iii: Evergy Kansas Central, Inc. and Evergy Kansas South, Inc Formula Rates Revisions to be effective 12/1/2024.

Filed Date: 9/25/24.

Accession Number: 20240925-5148.

Comment Date: 5 p.m. ET 10/16/24.

Docket Numbers: ER24-3115-000.

Applicants: Evergy Metro, Inc., Southwest Power Pool, Inc.

Description: 205(d) Rate Filing: Evergy Metro, Inc. submits tariff filing per 35.13(a)(2)(iii: Evergy Metro, Inc. Formula Rate Revisions to be effective 12/1/2024.

Filed Date: 9/25/24.

Accession Number: 20240925-5146.

Comment Date: 5 p.m. ET 10/16/24.

Docket Numbers: ER24-3116-000.

Applicants: Duke Energy Business Services LLC, PJM Interconnection, L.L.C.

Description: 205(d) Rate Filing: Duke Energy Business Services LLC submits tariff filing per 35.13(a)(2)(iii: Duke Ohio submits Interconnection Agreement, SA No. 3141 with EKPC to be effective 9/1/2024.

Filed Date: 9/26/24.

Accession Number: 20240926-5012.

Comment Date: 5 p.m. ET 10/17/24.

Docket Numbers: ER24-3117-000.

Applicants: American Electric Power Service Corporation, PJM Interconnection, L.L.C.

Description: 205(d) Rate Filing: American Electric Power Service Corporation submits tariff filing per 35.13(a)(2)(iii: AEP submits one Facilities Agreement re: ILDSA, SA No. 1336 to be effective 9/1/2024.

Filed Date: 9/26/24.

Accession Number: 20240926-5013.

Comment Date: 5 p.m. ET 10/17/24.

Docket Numbers: ER24-3118-000.

Applicants: Wabash Valley Power Association, Inc.

Description: 205(d) Rate Filing: WVPA—Submission of Facilities Construction Agreement to be effective 8/27/2024.

Filed Date: 9/26/24.

Accession Number: 20240926-5072.

Comment Date: 5 p.m. ET 10/17/24.

Docket Numbers: ER24-3119-000.

Applicants: Alabama Power Company, Georgia Power Company, Mississippi Power Company.

Description: 205(d) Rate Filing: Alabama Power Company submits tariff filing per 35.13(a)(2)(iii: Steamroller Solar Project LGIA Filing to be effective 9/13/2024.

Filed Date: 9/26/24.

Accession Number: 20240926-5086.

Comment Date: 5 p.m. ET 10/17/24.

Docket Numbers: ER24-3120-000.

Applicants: Duke Energy Florida, LLC.

Description: 205(d) Rate Filing: DEF-FMPA Revisions to NITSA SA No. 148 to be effective 9/1/2024.

Filed Date: 9/26/24.

Accession Number: 20240926-5109.

Comment Date: 5 p.m. ET 10/17/24.

Docket Numbers: ER24-3121-000.

Applicants: PJM Interconnection, L.L.C.

Description: 205(d) Rate Filing: Revisions to Allow Varying Notification Time in the Day-Ahead Market to be effective 11/26/2024.

Filed Date: 9/26/24.

Accession Number: 20240926-5120.

Comment Date: 5 p.m. ET 10/17/24.

Docket Numbers: ER24-3122-000.

Applicants: Tri-State Generation and Transmission Association, Inc.

Description: 205(d) Rate Filing: Amendment to Service Agreement FERC No. 112 to be effective 8/30/2024.

Filed Date: 9/26/24.

Accession Number: 20240926-5121.

Comment Date: 5 p.m. ET 10/17/24.

Docket Numbers: ER24-3123-000.

Applicants: Duke Energy Florida, LLC.

Description: 205(d) Rate Filing: DEF-SECI-FRP Dynamic Transfer Agmts RS Nos. 381, 382 and 383 to be effective 12/1/2024.

Filed Date: 9/26/24.

Accession Number: 20240926-5133.

Comment Date: 5 p.m. ET 10/17/24.

Take notice that the Commission received the following electric securities filings:

Docket Numbers: ES24-59-000.

Applicants: Oklahoma Gas and Electric Company.

Description: Application Under Section 204 of the Federal Power Act for Authorization to Issue Securities of Oklahoma Gas and Electric Company.

Filed Date: 9/26/24.

Accession Number: 20240926-5171.

Comment Date: 5 p.m. ET 10/17/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or

OPP@ferc.gov.

Dated: September 26, 2024.
Debbie-Anne A. Reese,
Acting Secretary.

[FR Doc. 2024-22751 Filed 10-2-24; 8:45 am]

BILLING CODE 6717-01-P